FEDERAL COMMUNICATIONS COMMISSION

47 CFR Part 1

[GN Docket No. 12-268; FCC 14-50]

Expanding the Economic and Innovation Opportunities of Spectrum Through Incentive Auctions

AGENCY: Federal Communications Commission.

ACTION: Final rule; announcement of effective date.

SUMMARY: In this document, the Commission announces that the Office of Management and Budget (OMB) approved, on an emergency basis, a revision to an approved information collection to implement new collection requirements contained in the Broadcast Incentive Auction Report and Order, Expanding the Economic and Innovation Opportunities of Spectrum Through Incentive Auctions, FCC 14-50. This document is consistent with the Broadcast Incentive Auction Report and Order, which stated that the Commission would publish a document in the Federal Register announcing OMB approval and the effective date of the rules and requirements.

DATES: The amendments adding 47 CFR 1.2205(c) and 1.2205(d), published at 79 FR 48442, August 15, 2014, are effective on December 31, 2015.

FOR FURTHER INFORMATION CONTACT: Contact Cathy Williams, Cathy.Williams@fcc.gov, (202) 418-2918.

SUPPLEMENTARY INFORMATION: This document announces that, on December 10, 2015, OMB approved, on an emergency basis, a revision to an approved information collection to implement new information collection requirements under 47 CFR 1.2205(c) and 1.2205(d), published at 79 FR 48442 on August 15, 2014. The OMB Control Number is 3060-0995. The Commission publishes this document as an announcement of the effective date of the rules and requirements. If you have any comments on the burden estimates listed below, or how the Commission can improve the collections and reduce any burdens caused thereby, please contact Cathy Williams, Federal Communications Commission, Room 1-C823, 445 12th Street SW., Washington, DC 20554. Please include the OMB Control Number, 3060-0995, in your correspondence. The Commission will also accept your comments via the Internet if you send them to PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the Commission is notifying the public that it received emergency approval from OMB on December 10, 2015 for the revised information collection requirements contained in the information collection 3060-0995, Section 1.2105(c), Bidding Application and Certification Procedures; Sections 1.2105(c) and Section 1.2205, Prohibition of Certain Communications.

Under 5 CFR 1320, an agency may not conduct or sponsor a collection of information unless it displays a current, valid OMB Control Number.

No person shall be subject to any penalty for failing to comply with a collection of information subject to the Paperwork Reduction Act that does not display a current, valid OMB Control Number. The OMB Control Number is 3060-0995. The foregoing document is required by the Paperwork Reduction Act of 1995, Pub. L. 104-13, October 1, 1995, and 44 U.S.C. 3507.

The total annual reporting burdens and costs for the respondents are as follows:

OMB Control Number: 3060-0995.

OMB Approval Date: December 10, 2015.

OMB Expiration Date: June 30, 2016.

Title: Section 1.2105(c), Bidding Application and Certification Procedures; Sections 1.2105(c) and Section 1.2205, Prohibition of Certain Communications.

Form No.: N/A.

Respondents: Business or other for-profit entities; Not-for-profit institutions; State, local or Tribal government.

Number of Respondents and Responses: 10 respondents; 10 responses.

Estimated Time per Response: 1.5 hours to 2 hours.

Frequency of Response: On-occasion reporting requirement.

Obligation to Respond: Required to obtain or retain benefits. The statutory authority for this information collection is contained in sections 154(i), 309(j), and 1452(a)(3) of the Communications Act of 1934, as amended, 47 U.S.C. 4(i), 309(j)(5), and 1452(a)(3), and sections 1.2205(c) and 1.2205(d) of the Commission's rules, 47 CFR 1.2205(c), (d).

Total Annual Burden: 50 hours.

Total Annual Cost: $9,000.

Privacy Act Impact Assessment: No impact(s).

Nature and Extent of Confidentiality: The Commission will take all reasonable steps to protect the confidentiality of all Commission-held data of a reverse auction applicant consistent with the confidentiality requirements of the Spectrum Act and the Commission's rules. See 47 U.S.C. 1452(a)(3); 47 CFR 1.2206. In addition, to the extent necessary, a full power or Class A television broadcast licensee may request confidential treatment of any report of a prohibited communication submitted to the Commission that is not already being treated as confidential pursuant to section 0.459 of the Commission's rules. See 47 CFR 0.459. Forward auction applicants are entitled to request confidentiality in accordance with section 0.459 of the Commission's rules, 47 CFR 0.459.

Needs and Uses: In the Broadcast Incentive Auction Report and Order, the Commission adopted new requirements for parties that might participate in the reverse auction component of the television broadcast incentive auction (BIA) prohibiting certain communications and requiring a covered party that makes or receives a prohibited communication to file a report of such a communication with the Commission, along with procedures for reporting potentially prohibited communications. See 47 CFR 1.2205(b), (c), (d). The Commission's rules prohibiting certain communications in Commission auctions are designed to reinforce existing antitrust laws, facilitate detection of collusive conduct, and deter anticompetitive behavior, without being so strict as to discourage procompetitive arrangements between auction participants. They also help assure participants that the auction process will be fair and objective, and not subject to collusion. The revised information collection implements the new BIA-specific rules in sections 1.2205(c) and 1.2205(d) by making clear the responsibility of parties who receive information that potentially violates the rules to promptly submit a report notifying the Commission, thereby helping the Commission enforce the prohibition on covered parties in the BIA, and further assuring incentive auction participants that the auction process will be fair and competitive. The prohibited communication reporting requirement required of covered parties will enable the Commission to ensure that no bidder gains an unfair advantage over other bidders in its auctions and thus enhances the competitiveness and fairness of Commission's auctions. The information collected will be reviewed and, if warranted, referred to the Commission's Enforcement Bureau for possible investigation and administrative action. The Commission may also refer allegations of anticompetitive auction conduct to the Department of Justice for investigation.

Federal Communications Commission.
Gloria J. Miles,
Federal Register Liaison Officer. Office of the Secretary.

[FR Doc. 2015-32824 Filed 12-30-15; 8:45 am]

BILLING CODE 6712-01-P